DEPARTMENT OF TRANSPORTATION

Federal Aviation Administration

[Docket No. FAA-2020-0060]

Agency Information Collection Activities: Requests for Comments; Clearance of New Approval of Information Collection: Pilot Professional Development

AGENCY: (FAA), DOT

ACTION: Notice and request for comments.

SUMMARY: In accordance with the Paperwork Reduction Act of 1995, FAA invites public comments about our intention to request the Office of Management and Budget (OMB) approval for a new information collection. The Federal Register Notice with a 60-day comment period soliciting comments on the following collection of information was published on October 7, 2016 (81FR69908). A second 60-day Federal Register Notice was published on September 29, 2020 (85FR61083). The collection involves the development and approval of new and revised training curriculum for certificate holders using part 121 pilot training and qualification programs.

DATES: Written comments should be submitted by December 21, 2020.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Sheri Pippin by email at: sheri.pippin@faa.gov; phone: 424-405-7256

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Pilot Professional Development.

Form Numbers: None.

Type of Review: New collection.

Background: The Federal Register Notice with a 60-day comment period soliciting comments on the following collection of information was published on October 7, 2016 (81FR69908). A second 60-day Federal Register Notice was published on September 29, 2020 (85FR61083). This action amends the requirements primarily applicable to air carriers conducting domestic, flag, and supplemental operations to enhance the professional development of pilots in those operations. This action requires air carriers conducting domestic, flag, and supplemental operations to provide new-hire pilots with an opportunity to observe flight operations and become familiar with procedures before serving as a flightcrew member in operations; to revise the upgrade curriculum; and to provide leadership and command and mentoring training for all pilots in command. This final rule will mitigate incidents of unprofessional pilot behavior and reduce pilot errors that can lead to a catastrophic event.

Summary: The final rule requires the development and approval of new and revised training curriculums for the following:

• Leadership and command and mentoring ground training for pilots currently serving as PIC (§ 121.429) and recurrent PIC leadership and command and mentoring training (§§ 121.409(b) and 121.427);

• Leadership and command training and recurrent leadership and command training for pilots serving as SIC in operations that require three or more pilots (§ 121.432(a));

• Upgrade training curriculum requirements (§§ 121.420 and 121.426);

• Part 121 appendix H requirements; and

• Approval of Qualification Standards Document for certificate holders using an Advanced Qualification Program (AQP) (§ 121.909).

The final rule also requires some additional recordkeeping related to maintaining records of pilots completing the following:

• Leadership and command and mentoring ground training for pilots currently serving as PIC (§ 121.429);

• Leadership and command training and recurrent leadership and command training for pilots serving as SIC in operations that require three or more pilots (§ 121.432(a));

• Recurrent PIC leadership and command and mentoring ground training (§ 121.427); and

• Operations familiarization for new-hire pilots (§ 121.435).

Use: This information will be used to ensure safety-of-flight by making certain that adequate training is obtained and maintained by those who operate under part 121. The FAA will review the respondents' training programs and training courseware through routine certification, inspection and surveillance of certificate holders using part 121 pilot training and qualification programs to ensure compliance and adherence to regulations and, where necessary, to take enforcement action.

Respondents: As of February 2017, there were 79 certificate holders who use part 121 pilot training and qualification programs. They collectively employed 39,122 PICs and 42,227 SICs.

Frequency: Information is collected on occasion. Responses will vary based on type of operation.

Estimated Average Burden per Response: 206 hours.

Estimated Total Annual Burden: 9,614 Hours.

Issued in Washington, DC, on November 17, 2020.
Sandra L. Ray,
Aviation Safety Inspector, FAA Policy Integration Branch, AFS-270.

[FR Doc. 2020-25699 Filed 11-19-20; 8:45 am]

BILLING CODE 4910-13-P